DEPARTMENT OF ENERGY

Federal Energy Regulatory Commission

[Docket No. RP02-65-001]

Columbia Gulf Transmission Company; Notice of Proposed Changes in FERC Gas Tariff

December 17, 2001.

Take notice that on December 7, 2001, Columbia Gulf Transmission Company (Columbia Gulf) tendered for filing as part of its FERC Gas Tariff, Second Revised Volume No. 1, Substitute Twenty-seventh Revised Sheet No. 18 and Substitute Seventeenth Revised Sheet No. 18A, to become effective January 1, 2002:

Columbia Gulf states that on November 30, 2001, it submitted tariff sheets in accordance with the Commission's order issued on September 19, 2001 in Gas Research Institute's (GRI) Docket No. RP01-434-000 (Order Approving Settlement). The order approved GRI's 2002 funding formula. Subsequent to that filing, it has come to Columbia Gulf's attention that it inadvertently reflected the GRI surcharge applicable to those customers with load factors equal to or less than 50% at 4.1¢/Dth instead of the approved surcharge of 4.07¢/Dth. The instant filing is being made to correct the surcharge.

Columbia Gulf states that copies of its filing is being mailed to each of Columbia Gulf's firm and interruptible customers and affected state commissions.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31447 Filed 12-20-01; 8:45 am]

BILLING CODE 6717-01-P